DEPARTMENT OF HOMELAND SECURITY

Coast Guard

33 CFR Part 138

[Docket No. USCG-2005-21780]

RIN 1625-AA98

Financial Responsibility for Water Pollution (Vessels) and OPA 90 Limits of Liability (Vessels and Deepwater Ports); Correction

AGENCY: Coast Guard, DHS.

ACTION: Proposed rule; correction.

SUMMARY: The Coast Guard published in the Federal Register of February 5, 2008, a notice of proposed rulemaking which, among other things, would amend the regulatory requirements for vessel operators to establish and maintain evidence of financial responsibility. That document contained an incorrect effective date and was also unclear. This document corrects the preamble and regulatory text to the proposed rule to clarify the effective date and the distinction between the financial responsibility applicable amounts and limits of liability.

DATES: Comments and related material must reach the Docket Management Facility on or before May 5, 2008. Comments sent to the Office of Management and Budget (OMB) on collection of information must reach OMB on or before May 5, 2008.

ADDRESSES: You may submit comments identified by Coast Guard docket number USCG-2005-21780 to the Docket Management Facility at the U.S. Department of Transportation. To avoid duplication, please use only one of the following methods:

(1) Online: http://www.regulations.gov.

(2) Mail: Docket Management Facility (M-30), U.S. Department of Transportation, West Building Ground Floor, Room W12-140, 1200 New Jersey Avenue, SE., Washington, DC 20590-0001.

(3) Hand delivery: Room W12-140 on the Ground Floor of the West Building, 1200 New Jersey Avenue, SE., Washington, DC 20590 between 9 a.m. and 5 p.m., Monday through Friday, except Federal holidays. The telephone number is 202-366-9329.

(4) Fax: 202-493-2251.

You must also send comments on collection of information to the Office of Information and Regulatory Affairs, Office of Management and Budget. To ensure that the comments are received on time, the preferred method is by e-mail at nlesser@omb.eop.gov or fax at 202-395-6566. An alternate, though slower, method is by U.S. mail to the Office of Information and Regulatory Affairs, Office of Management and Budget, 725 17th Street, NW., Washington, DC 20503, ATTN: Desk Officer, U.S. Coast Guard.

FOR FURTHER INFORMATION CONTACT: If you have questions on this proposed rule, call Benjamin White, National Pollution Funds Center, Coast Guard, telephone 202-493-6863. If you have questions on viewing or submitting material to the docket, call Renee V. Wright, Program Manager, Docket Operations, telephone 202-366-9826.

SUPPLEMENTARY INFORMATION: The Coast Guard published an NPRM in the Federal Register of February 5, 2008, (73 FR 6642) which, among other things, proposed amending the regulatory requirements for vessel operators to establish and maintain evidence of financial responsibility. That document contained an incorrect effective date and was also unclear. This document corrects the preamble and regulatory text to the proposed rule to clarify the effective date and the distinction between the financial responsibility applicable amounts of § 138.80(f) and limits of liability in proposed Subpart B.

In FR Doc. E8-1516, appearing on page 6642 in the Federal Register of Tuesday, February 5, 2008, the following corrections are made:

Preamble [Corrected]

1. On page 6645, in the third column, after the reference to Section 138.85, remove the paragraph that states: “This new section of the proposed rule would establish an implementation schedule that would apply to the increased applicable amounts in Subpart B of this proposed rule, and whenever the financial responsibility applicable amounts under Subpart B are amended by regulation. This would occur in instances including, but not limited to, future regulatory changes mandated by statute, and when the limits of liability in proposed subpart B of this Part are amended to reflect significant increases in the Consumer Price Index pursuant to 33 U.S.C. 2704(d)(4).” and add, in its place, the following paragraph: “This new section of the proposed rule would establish an implementation schedule that would apply to the increased applicable amounts referenced in 138.80(f) of this proposed rule, and whenever the financial responsibility applicable amounts under § 138.80(f) are amended by regulation. This would occur in instances including, but not limited to, future regulatory changes mandated by statute, and when the limits of liability in proposed subpart B of this Part are amended to reflect significant increases in the Consumer Price Index pursuant to 33 U.S.C. 2704(d)(4).”

§ 138.85 [Corrected]

2. On page 6654 in the first column, revise the proposed regulatory text for proposed § 138.85 to read as follows:

§ 138.85 Implementation Schedule

The effective date of the applicable amounts referenced in § 138.80(f) of this part will be [INSERT DATE 120 DAYS AFTER PUBLICATION OF FINAL RULE IN THE Federal Register]. In the event an applicable amount referenced in § 138.80(f) is thereafter amended by regulation, the effective date of the amended applicable amount will be 120 days after publication of a final rule in the Federal Register, unless another date is required by statute and specified in the amending regulation. Each operator of a vessel described in § 138.15, must have established, on or before the effective date of the applicable amount including any amendments thereto, evidence of financial responsibility acceptable to the Director, NPFC, in an amount equal to or greater than the total applicable amount.”

Dated: February 7, 2008.
William Grawe,
Acting Director, National Pollution Funds Center, United States Coast Guard.

[FR Doc. E8-2685 Filed 2-12-08; 8:45 am]

BILLING CODE 4910-15-P